NATIONAL AERONAUTICS AND SPACE ADMINISTRATION

[Notice 01-021]

NASA Advisory Council, Aero-Space Technology Advisory Committee (ASTAC); Rotorcraft Subcommittee Meeting

AGENCY: National Aeronautics and Space Administration.

ACTION: Notice of meeting.

SUMMARY: In accordance with the Federal Advisory Committee Act, Pub. L. 92-463, as amended, the National Aeronautics and Space Administration announces a NASA Advisory Council, Aero-Space Technology Advisory Committee, Rotorcraft Subcommittee meeting.

DATES: Thursday, April 26, 2001, 8 a.m. to 5 p.m. and Friday, April 27, 2001, 8 a.m. to 12 Noon.

ADDRESSES: National Aeronautics and Space Administration, John H. Glenn Research Center at Lewis Field, Administration Building, Room 215, 21000 Brookpark Road, Cleveland, OH 44135.

FOR FURTHER INFORMATION CONTACT: Ms. Mattie P. Thomas, National Aeronautics and Space Administration, John H. Glenn Research Center at Lewis Field, 21000 Brookpark Road, Cleveland, OH 44135, 216/433-3702.

SUPPLEMENTARY INFORMATION: The meeting will be open to the public up to the seating capacity of the room. Agenda topics for the meeting are as follows:

—Status, Technical Accomplishments, and Plans for the NASA Rotorcraft Research and Technology Base Program

—Review of Rotorcraft-Related Research Activities at Glenn Research Center

It is imperative that the meeting be held on these dates to accommodate the scheduling priorities of the key participants. Visitors will be requested to sign a visitors register.

Dated: February 6, 2001.
Beth M. McCormick,
Advisory Committee Management Officer, National Aeronautics and Space Administration.

[FR Doc. 01-3477 Filed 2-9-01; 8:45 am]

BILLING CODE 7510-01-U